DEPARTMENT OF THE INTERIOR

Bureau of Land Management

[19X.LL.AZP01000.L1400000.EQ0000; AZA-37401]

Notice of Realty Action: Classification and Segregation for Lease/Conveyance for Recreation and Public Purposes for Proposed Poston Butte Preserve in Pinal County, AZ

AGENCY: Bureau of Land Management, Interior.

ACTION: Notice of realty action.

SUMMARY: In accordance with Section 7 of the Taylor Grazing Act and Executive Order 6910, as amended, the Bureau of Land Management (BLM) has examined certain public lands in Pinal County, Arizona, and has found them suitable for classification for lease or conveyance to the Town of Florence, under the provisions of the Recreation and Public Purposes (R&PP) Act of June 14, 1926, as amended.

DATES: Interested parties may submit written comments regarding this proposed classification for lease or conveyance on or before February 3, 2020.

ADDRESSES: Send written comments to Edward J. Kender, Field Manager, BLM Lower Sonoran Field Office, 21605 North 7th Avenue, Phoenix, AZ 85027. Detailed information including, but not limited to, a proposed plan of development and preliminary maps are available for review during business hours, 7:30 a.m. to 4:30 p.m. Mountain Standard Time, Monday through Friday, except during Federal holidays, at the BLM Lower Sonoran Field Office.

FOR FURTHER INFORMATION CONTACT: Sirita Benally, Realty Specialist, at the location listed in the ADDRESSES section, by phone at 623-580-5557, or by email at sbenally@blm.gov. Persons who use a telecommunications device for the deaf may call the Federal Relay Service (FRS) at 1-800-877-8339 to leave a message or question for the above individual. The FRS is available 24 hours a day, 7 days a week. You will receive a reply during normal business hours.

SUPPLEMENTARY INFORMATION: The Town of Florence has submitted a statement in compliance with the regulations at 43 CFR 2741.4(b) and proposes to use the land to develop a public park for recreational purposes to meet future recreational needs. The project consists of non-motorized recreational trails, trailheads, picnic facilities, restrooms, perimeter fencing, site furnishings, directional and interpretive signage, and parking. The Town of Florence, has not applied for more than the 6,400-acre limitation for recreation uses in a year (or 640 acres if a nonprofit corporation or association), nor more than 640 acres for each of the programs involving public resources other than recreation. The lands examined and identified as suitable for lease or conveyance under the R&PP Act are legally described as:

Gila and Salt River Meridian, Arizona

T. 4 S., R. 9 E.,

Section 26, that portion of the NW¼ lying north of the existing railroad right-of-way;

Section 27, N½NW¼

The area described contains approximately 200 acres aggregate.

Lease or conveyance of the lands for recreational or public purposes use is in conformance with the BLM Lower Sonoran Record of Decision & Approved Resource Management Plan, approved September 2012.

The parcels are not identified as access points for recreation in accordance with Secretary's Order 3373—Evaluating Public Access in Bureau of Land Management Public Land Disposals and Exchanges. There are no anticipated impacts from the BLM-managed public land disposal on recreational access to adjacent tracts of publicly accessible lands.

All interested parties will receive a copy of this notice once it is published in the Federal Register. A copy of the Federal Register notice with information about this proposed realty action will be published in the newspaper of local circulation once a week for three consecutive weeks. The regulations at 43 CFR Subpart 2741 addressing requirements and procedures for conveyances under the R&PP Act do not require a public meeting.

Upon publication of this notice in the Federal Register the lands will be segregated from all forms of appropriation under the public land laws, including the United States general mining laws, except for lease or conveyance under the R&PP Act, leasing under the mineral leasing laws and disposals under the mineral material disposal laws.

The lease or conveyance of the land, when issued, will be subject to the following terms, conditions and reservations:

1. The reservation to the United States of a right-of-way thereon for ditches and canals constructed by the authority of the United States, Act of August 30, 1890 (43 U.S.C. 945);

2. Provisions of the R&PP Act and to all applicable regulations of the Secretary of the Interior;

3. All minerals shall be reserved to the United States, together with the right to prospect for, mine and remove such deposits from the same under applicable law and such regulations as the Secretary of the Interior may prescribe; and subject to valid exiting rights;

4. An appropriate indemnification clause protecting the United States from claims arising out of the lessee's/patentee's use, occupancy, or occupations on the leased/patented lands;

5. Any other reservations that the authorized officer determines appropriate to ensure public access and proper management of Federal lands and interests therein; and

Additional terms, conditions and reservations may be added that the authorized officer deems appropriate.

Classification Comments: Interested persons may submit comments involving the suitability of the land for development of public parks for recreational purposes. Comments on the classification are restricted to whether the land is physically suited for the proposal, whether the use will maximize the future use or uses of the land, whether the use is consistent with local planning and zoning, or if the use is consistent with state and Federal programs.

Application Comments: Interested persons may submit written comments, including notification of any encumbrances or other claims relating to the land, information regarding specific use proposed in the application, whether the BLM followed proper administrative procedures in reaching the decision to segregate the lands, or any other factor not directly related to the suitability of the lands for the R&PP lease/patent.

Any adverse comments will be reviewed by the BLM State Director or other authorized official of the Department of the Interior, who may sustain, vacate, or modify this realty action. In the absence of any adverse comments, the classification will become effective on February 18, 2020. The lands will not be offered for conveyance until after the classification becomes effective.

Before including your address, phone number, email address, or other personal identifying information in any comment, be aware that your entire comment, including your personal identifying information, may be made publicly available at any time. While you can ask us in your comment to withhold your personal identifying information from public review, the BLM cannot guarantee that we will be able to do so.

Authority: 43 CFR 2741.5.

Edward J. Kender,
Field Manager, Lower Sonoran Field Office.

[FR Doc. 2019-27498 Filed 12-19-19; 8:45 am]

BILLING CODE P